DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on October 9, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On October 9, 2025, OFAC determined that the property and interests in property subject to U.S. jurisdiction of the following persons are blocked under the relevant sanctions authority listed below.

BILLING CODE 4810-AL-P

BILLING CODE 4810-AL-C

Individuals

1. PULA, Varun, India; DOB 23 Dec 1993; POB Tirupathi, Andhra Pradesh, India; nationality India; Gender Male; Passport W5820270 (India) issued 01 Nov 2022 expires 31 Oct 2032 (individual) [IRAN-EO13902] (Linked To: BERTHA SHIPPING INC.).

Designated pursuant to section 1(a)(iv) of E.O. 13902 for having acted or purported to act for or on behalf of, directly or indirectly, BERTHA SHIPPING INC.

2. RAJA, Iyappan, India; DOB 09 Apr 1991; POB Pathirikuppam, Tamil Nadu, India; nationality India; Gender Male; Passport C2213520 (India) issued 19 Sep 2024 expires 18 Sep 2034 (individual) [IRAN-EO13902] (Linked To: EVIE LINES INC.).

Designated pursuant to section 1(a)(iv) of E.O. 13902 for having acted or purported to act for or on behalf of, directly or indirectly, EVIE LINES INC.

3. SHRESTHA, Soniya, India; DOB 28 Oct 1997; nationality India; Gender Female; Identification Number 11046412 (India) (individual) [IRAN-EO13902] (Linked To: VEGA STAR SHIP MANAGEMENT PRIVATE LIMITED).

Designated pursuant to section 1(a)(iv) of E.O. 13902 for being owned or controlled by, or having acted or purported to act for or on behalf of, directly or indirectly, VEGA STAR SHIP MANAGEMENT PRIVATE LIMITED.

On October 9, 2025, OFAC also identified the following vessels as property in which a blocked person has an interest under the relevant sanctions authority listed below.

Vessels

1. GAS DIOR (3E2181) LPG Tanker Panama flag; Vessel Year of Build 2008; Vessel Registration Identification IMO 9379404; MMSI 352002012 (vessel) [IRAN-EO13902] (Linked To: AERILYN SHIPPING INC.).

Identified as property in which AERILYN SHIPPING INC., a person whose property and interests in property are blocked pursuant to E.O. 13902, has an interest.

2. MAX STAR (T8A4869) LPG Tanker Palau flag; Vessel Year of Build 1996; Vessel Registration Identification IMO 9134165; MMSI 511101486 (vessel) [IRAN-EO13902] (Linked To: OCEAN INC.).

Identified as property in which OCEAN INC., a person whose property and interests in property are blocked pursuant to E.O. 13902, has an interest.

3. APS 9 (9V6767) Tug Singapore flag; Vessel Year of Build 2005; Vessel Registration Identification IMO 9360001; MMSI 565649000 (vessel) [IRAN-EO13902] (Linked To: ANGLO PREMIER SHIPPING PTE. LTD.).

Identified as property in which ANGLO PREMIER SHIPPING PTE. LTD., a person whose property and interests in property are blocked pursuant to E.O. 13902, has an interest.

4. MADESTAR (3E6775) Crude Oil Tanker Panama flag; Vessel Year of Build 2005; Vessel Registration Identification IMO 9289726; MMSI 352004484 (vessel) [IRAN-EO13902] (Linked To: NEOWAVE MANAGEMENT CO., LTD).

Identified as property in which NEOWAVE MANAGEMENT CO., LTD, a person whose property and interests in property are blocked pursuant to E.O. 13902, has an interest.

5. PIONEER 92 (JVHQ7) Tug Mongolia flag; Vessel Year of Build 2004; Vessel Registration Identification IMO 9340934; MMSI 457133000 (vessel) [IRAN-EO13902] (Linked To: LOGOS MARINE PTE. LTD.).

Identified as property in which LOGOS MARINE PTE. LTD., a person whose property and interests in property are blocked pursuant to E.O. 13902, has an interest.

6. PURDUE STELLAR (VRWD6) Crude Oil Tanker Hong Kong flag; Other Vessel Flag China; Vessel Year of Build 2004; Vessel Registration Identification IMO 9275658; MMSI 477965400 (vessel) [IRAN-EO13902] (Linked To: GREAT TIMES SHIPPING LIMITED).

Identified as property in which GREAT TIMES SHIPPING LIMITED, a person whose property and interests in property are blocked pursuant to E.O. 13902, has an interest.

7. VOY (S9A3175) Crude Oil Tanker Sao Tome and Principe flag; Vessel Year of Build 2000; Vessel Registration Identification IMO 9222443; MMSI 668116375 (vessel) [IRAN-EO13902] (Linked To: HOZDRA GROUP LIMITED).

Identified as property in which HOZDRA GROUP LIMITED, a person whose property and interests in property are blocked pursuant to E.O. 13902, has an interest.

8. SEA OPERA (TJMC902) LPG Tanker Cameroon flag; Vessel Year of Build 1991; Vessel Registration Identification IMO 9000883; MMSI 613490000 (vessel) [IRAN-EO13902] (Linked To: YU HONG DE COMPANY LIMITED).

Identified as property in which YU HONG DE COMPANY LIMITED, a person whose property and interests in property are blocked pursuant to E.O. 13902, has an interest.

9. TULIP (TJM0150) LPG Tanker Cameroon flag; Vessel Year of Build 1990; Vessel Registration Identification IMO 8912558; MMSI 613467106 (vessel) [IRAN-EO13902] (Linked To: JULIET TRADING LIMITED).

Identified as property in which JULIET TRADING LIMITED, a person whose property and interests in property are blocked pursuant to E.O. 13902, has an interest.

10. ADA (a.k.a. CAPTAIN NIKOLAS) LPG Tanker Comoros flag; Vessel Year of Build 1992; Vessel Registration Identification IMO 9008108 (vessel) [IRAN-EO13902] (Linked To: S E A SHIP MANAGEMENT LLC).

Identified as property in which S E A SHIP MANAGEMENT LLC, a person whose property and interests in property are blocked pursuant to E.O. 13902, has an interest.

11. GAS LEADER (C5J302) LPG Tanker Gambia flag; Vessel Year of Build 1995; Vessel Registration Identification IMO 9114581; MMSI 629009290 (vessel) [IRAN-EO13902] (Linked To: S E A SHIP MANAGEMENT LLC).

Identified as property in which S E A SHIP MANAGEMENT LLC, a person whose property and interests in property are blocked pursuant to E.O. 13902, has an interest.

12. GAS MARTA (T8A5099) LPG Tanker Palau flag; Vessel Year of Build 2006; Vessel Registration Identification IMO 9307748; MMSI 511101638 (vessel) [IRAN-EO13902] (Linked To: S E A SHIP MANAGEMENT LLC).

Identified as property in which S E A SHIP MANAGEMENT LLC, a person whose property and interests in property are blocked pursuant to E.O. 13902, has an interest.

13. GAS VISION (a.k.a. NEGH) (C5J424) LPG Tanker Gambia flag; Vessel Year of Build 1996; Vessel Registration Identification IMO 9115303; MMSI 629009412 (vessel) [IRAN-EO13902] (Linked To: S E A SHIP MANAGEMENT LLC).

Identified as property in which S E A SHIP MANAGEMENT LLC, a person whose property and interests in property are blocked pursuant to E.O. 13902, has an interest.

14. SEA HERMES (T8A4906) LPG Tanker Palau flag; Vessel Year of Build 1993; Vessel Registration Identification IMO 9031519; MMSI 511101504 (vessel) [IRAN-EO13902] (Linked To: S E A SHIP MANAGEMENT LLC).

Identified as property in which S E A SHIP MANAGEMENT LLC, a person whose property and interests in property are blocked pursuant to E.O. 13902, has an interest.

15. GALE (VRWC5) Crude Oil Tanker Gambia flag; Former Vessel Flag Hong Kong; Vessel Year of Build 2005; Vessel Registration Identification IMO 9294240; MMSI 477957100 (vessel) [IRAN-EO13902] (Linked To: ABGO TRADING LIMITED).

Identified as property in which ABGO TRADING LIMITED, a person whose property and interests in property are blocked pursuant to E.O. 13902, has an interest.

16. SIREN II (VRWA9) Crude Oil Tanker Hong Kong flag; Other Vessel Flag China; Vessel Year of Build 2008; Vessel Registration Identification IMO 9337195; MMSI 477945800 (vessel) [IRAN-EO13902] (Linked To: BLUE OCEAN MARINE COMPANY LIMITED).

Identified as property in which BLUE OCEAN MARINE COMPANY LIMITED, a person whose property and interests in property are blocked pursuant to E.O. 13902, has an interest.

17. SONA (C5J49620) LPG Tanker Gambia flag; Vessel Year of Build 1993; Vessel Registration Identification IMO 9005053; MMSI 629009408 (vessel) [IRAN-EO13902] (Linked To: SKIATHOS MARITIME AND TRADING SA).

Identified as property in which SKIATHOS MARITIME AND TRADING SA, a person whose property and interests in property are blocked pursuant to E.O. 13902, has an interest.

18. SULLANA (D6A3555) Crude Oil Tanker Comoros flag; Vessel Year of Build 2000; Vessel Registration Identification IMO 9180152; MMSI 306400000 (vessel) [IRAN-EO13902] (Linked To: SULLANA INC).

Identified as property in which SULLANA INC, a person whose property and interests in property are blocked pursuant to E.O. 13902, has an interest.

19. VITA I (H3OV) Crude Oil Tanker Panama flag; Vessel Year of Build 2003; Vessel Registration Identification IMO 9241114; MMSI 352439000 (vessel) [IRAN-EO13902] (Linked To: SINOPER SHIPPING CO).

Identified as property in which SINOPER SHIPPING CO, a person whose property and interests in property are blocked pursuant to E.O. 13902, has an interest.

20. GAS ZEINA (C5J304) LPG Tanker Gambia flag; Vessel Year of Build 1990; Vessel Registration Identification IMO 8818843; MMSI 629009292 (vessel) [IRAN-EO13902] (Linked To: TITAN SEAWAYS LTD).

Identified as property in which TITAN SEAWAYS LTD, a person whose property and interests in property are blocked pursuant to E.O. 13902, has an interest.

21. NEPTA (a.k.a. “LPG VENUS”) (D6A3909) LPG Tanker Comoros flag; Vessel Year of Build 1995; Vessel Registration Identification IMO 9013701; MMSI 620999910 (vessel) [IRAN-EO13902] (Linked To: VEGA STAR SHIP MANAGEMENT PRIVATE LIMITED).

Identified as property in which VEGA STAR SHIP MANAGEMENT PRIVATE LIMITED, a person whose property and interests in property are blocked pursuant to E.O. 13902, has an interest.

22. PAMIR (D6A3647) LPG Tanker Comoros flag; Vessel Year of Build 2001; Vessel Registration Identification IMO 9208239; MMSI 620999947 (vessel) [IRAN-EO13902] (Linked To: BERTHA SHIPPING INC.).

Identified as property in which BERTHA SHIPPING INC., a person whose property and interests in property are blocked pursuant to E.O. 13902, has an interest.

23. SAPPHIRE GAS (3E8359) LPG Tanker Panama flag; Vessel Year of Build 2007; Vessel Registration Identification IMO 9320738; MMSI 352005205 (vessel) [IRAN-EO13902] (Linked To: EVIE LINES INC.).

Identified as property in which EVIE LINES INC., a person whose property and interests in property are blocked pursuant to E.O. 13902, has an interest.

(Authorities: E.O. 13846 and E.O. 13902.)

Bradley T. Smith,
Director, Office of Foreign Assets Control.

[FR Doc. 2025-20971 Filed 11-24-25; 8:45 am]

BILLING CODE 4810-AL-P